DEPARTMENT OF LABOR

Office of the Secretary

Submission for OMB Review; Comment Request

July 3, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King at (200) 693-4129 or E-Mail: king-darring@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment Standards Agency (ESA).

Title: Employer's First Report of Injury or Occupational Disease (LS-202); Physician's Report on Impairment of Vision (LS-205); Employer's Supplementary Report of Accident or Occupational Illness (LS-210).

OMB Number: 1215-0031.

Affected Public: Business or other for-profit; and Not-for-profit institutions.

Frequency: On occasion.

Form | Number of respondents | Annual responses | Hours per response | Burden hours
LS-202 | 24,000 | 24,000 | 0.25 | 6,000
LS-205 | 80 | 80 | .75 | 60
LS-210 | 2,580 | 2,580 | .25 | 645
Total | * 24,080 | 26,660 |  | 6,705
* The number of respondents equals 24,000 plus 80. The respondents for the LS-202 and LS-210 are the same individuals.

Total Annualized Capital/Startup Costs: $0.

Total Annual Costs (operating/maintaining systems or purchasing services): $11,100.

Descriptions: These forms are used to report injuries, periods of disability, and medical treatment under the Longshore and Harbor Workers' Compensation Act.

Type of Review: Extension of a currently approved collection.

Agency: Employment Standards Agency (ESA).

Title: Notice of Law Enforcement Officer's Injury or Occupational Disease (CA-721); Notice of Law Enforcement Officer's Death (CA-722).

OMB Number: 1215-0116.

Affected Public: Individuals or households; Business or other for-profit; and State, Local, or Tribal Government.

Frequency: On occasion.

Form | Number of respondents | Annual responses | Hours per response | Burden hours
CA-721 | 8 | 8 | 1.0 | 8
CA-722 | 15 | 15 | 1.5 | 23
Total | 23 | 23 |  | 31

Total Annualized Capital/Startup Costs: $0.

Total Annual Costs (operating/maintaining systems or purchasing services): $8.51.

Descriptions: These forms are used for filing claims for compensation for injury and death to non-Federal law enforcement officers under the provisions of 5 U.S.C. 8191 et seq. The forms provide the basic information needed to process the claims made for injury or death.

Type of Review: Extension of a currently approved collection.

Agency: Employment Standards Agency (ESA).

Title: Labor Standards for Federal Service Contracts—29 CFR Part 4.

OMB Number: 1215-0150.

Affected Public: Business or other for-profit and Federal Government.

Frequency: On occasion.

Report | Number of respondents | Annual responses | Hours per response | Burden hours
Vacation Benefit Seniority List | 62,332 | 62,332 | 1 | 62,332
Conformance Report | 194 | 194 | .5 | 97
Collective Bargaining Agreement (CBA) | 1,500 | 1,500 | .8 | 125
Total | 64,026 | 64,026 |  | 62,554

Total Annualized Capital/Startup Costs: $0.

Total Annualized costs (operating/maintaining systems or purchasing services): $0.

Description: The information submitted on Vacation Benefit Seniority List is used by Federal contractors to determine vacation fringe benefit entitlements earned and accrued by service employees who were employed by predecessor contractors.

The Conformance Record is reviewed by Wage and Hour Division staff in determining the appropriateness of the conformance and compliance with requirements of the Service Contract Act of 1965 as Amended, 41 U.S.C. 351 et seq.

CBAs are submitted by the contracting agency to the Wage and Hour Division where they are used in the issuance of wage determinations for successor contracts subject to section 2(a) and 4(c) of the Service Contract Act of 1965 as Amended, 41 U.S.C. 351 et seq.

Ira L. Mills,
Departmental Clearance Officer.

[FR Doc. 01-19681 Filed 8-6-01; 8:45 am]

BILLING CODE 4510-27-M